DEPARTMENT OF LABOR

Mine Safety and Health Administration

Proposed Information Collection Request Submitted for Public Comment and Recommendations; Gamma Radiation Exposure Records

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA 95) [44 U.S.C. 3506(c)(2)(A)]. This program helps to ensure that requested data can be provided in the desired format, reporting burden (time and financial resources) is minimized, collection instruments are clearly understood, and the impact of collection requirements on respondents can be properly assessed.

DATES: Submit comments on or before November 14, 2000.

ADDRESSES: Send comments to Brenda C. Teaster, Acting Chief, Records Management Division, 4015 Wilson Boulevard, Room 709A, Arlington, VA 22203-1984. Commenters are encouraged to send their comments on a computer disk, or via Internet E-mail to bteaster@msha.gov, along with an original printed copy. Ms. Teaster can be reached at (703) 235-1470 (voice), or (703) 235-1563 (facsimile).

FOR FURTHER INFORMATION CONTACT: Brenda C. Teaster, Acting Chief, Records Management Division, 4015 Wilson Boulevard, U.S. Department of Labor, Mine Safety and Health Administration, Room 709A, Arlington, VA 22203-1984. Ms. Teaster can be reached at bteaster@msha.gov (Internet E-mail), (703) 235-1470 (voice), or (703) 235-1563 (facsimile).

SUPPLEMENTARY INFORMATION:

I. Background

Under Section 103(c) of the Federal Mine Safety and Health Act of 1977, MSHA is required to “* * *issue regulations requiring operators to maintain accurate records of employee exposures to potentially toxic materials or harmful physical agents which are required to be monitored or measured under any applicable mandatory health or safety standard promulgated under this Act.”

Gamma radiation occurs anywhere that radioactive materials are present, and has been associated with lung cancer and other debilitating occupational diseases. Gamma radiation hazards may be found near radiation sources at surface operations using X-ray machines, weightometers, nuclear and diffraction units.

II. Desired Focus of Comments

Currently the Mine Safety and Health Administration (MSHA) is soliciting comments concerning the proposed new/revision/extension/reinstatement of the information collection related to Gamma Radiation Exposure Records (pertains to metal and nonmetal underground mines). MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act submission (http:www.msha.gov/regspwork.htm)”, or by contacting the employee listed above in the FOR FURTHER INFORMATION CONTACT section of this notice for a hard copy.

III. Current Actions

Annual gamma radiation surveys are required to be conducted in all underground mines where radioactive ores are mined. Where the average gamma radiation measurements are in excess of 2.0 milliroentgens per hour in the working place, all persons are to be provided with gamma radiation dosimeters and records of cumulative individual gamma radiation exposures be kept.

Records of cumulative occupational radiation exposures aid in the protection of workers and in control of subsequent radiation exposure, and are used by MSHA in the evaluation of the effectiveness of the protection program in demonstrating compliance with regulatory requirements.

Type of Review: Extension.

Agency: Mine Safety and Health Administration.

Title: Gamma Radiation Exposure Records.

OMB Number: 1219-0039.

Affected Public: Business or other for-profit institutions.

Cite/Reference/Form/etc.: 30 CFR 57.5047.

Total Respondents: 2.

Frequency: Annually.

Total Responses: 2.

Average Time per Response: 2 hours.

Estimated Total Burden Hours: 2.

Estimated Total Burden Cost: $92.

Total Burden Cost (capital/startup): $0.

Total Burden Cost (operating/maintaining): $0.

Comments submitted in response to this notice will be summarized and/or included in the request for Office of Management and Budget approval of the information collection request; they will also become a matter of public record.

Dated: September 11, 2000.
Brenda C. Teaster,
Acting Chief, Records Management Division.

[FR Doc. 00-23758 Filed 9-14-00; 8:45 am]

BILLING CODE 4510-43-M